DEPARTMENT OF HOMELAND SECURITY

U.S. Citizenship and Immigration Services

[CIS No. 2352-05]

RIN 1615-ZA23

Adjustment of the Immigration Benefit Application Fee Schedule; Correction

AGENCY: U.S. Citizenship and Immigration Services, Department of Homeland Security.

ACTION: Notice of correction.

SUMMARY: U.S. Citizenship and Immigration Services (USCIS) published a notice in the Federal Register on September 26, 2005 at 70 FR 56182 to increase the fees for immigration benefit applications and petitions to account for cost increases due to inflation. In the fee table of the September 26, 2005 notice, USCIS added a footnote “6” next to the new fee for the Form N-600K. Footnote “6” shows an increase in fee from $200 to $215 for an application filed on behalf of an adopted child (as compared to the base fee increase from $240 to $255). The placement of this footnote and its lack of specificity regarding which “application” it was meant to refer to have created some ambiguity regarding the adopted child fee for the Form N-600, which similarly was adjusted from $200 to $215 (as compared to the new base fee of $255 referenced in the Notice). Accordingly, this notice clarifies the prior notice by amending footnote “6” to state specifically that it refers to both the Form N-600 and the Form N-600K.

DATES: This correction is effective October 26, 2005.

FOR FURTHER INFORMATION CONTACT: Paul Schlesinger, Director, Office of Budget, U.S. Citizenship and Immigration Services, 20 Massachusetts Ave., NW., Suite 4052, Washington, DC 20529, telephone (202) 272-1930.

SUPPLEMENTARY INFORMATION:

Need for Correction

As published in the Federal Register on September 26, 2005 (70 FR 56182), the Notice contains an error that is in need of correction for the purpose of clarifying the Notice.

Correction of Publication

Accordingly, the publication on September 26, 2005 (70 FR 56182), of the Notice that was the subject of FR Doc. 05-19226 is corrected as follows:

1. On page 56184, immediately after the table, amend footnote “6” by striking “an application” and inserting “a Form N-600 or Form N-600K”.

Dated: October 24, 2005.
Stephen Tarragon,
Acting Director, Regulatory Management Division.

[FR Doc. 05-21483 Filed 10-24-05; 1:57 pm]

BILLING CODE 4410-10-P